DEPARTMENT OF ENERGY

Federal Energy Regulatory Commission

[Project No. 2736-046]

Idaho Power Company; Notice of Application Accepted for Filing and Soliciting Motions To Intervene and Protests

Take notice that the following hydroelectric application has been filed with the Commission and is available for public inspection.

a. Type of Application: New Major License.

b. Project No.: 2736-046.

c. Date Filed: February 14, 2023.

d. Applicant: Idaho Power Company (Idaho Power).

e. Name of Project: American Falls Hydroelectric Project (project).

f. Location: On the Snake River, in Power County, Idaho, near the City of American Falls, Idaho. The project occupies 7.37 acres of United States lands administered by the U.S. Bureau of Reclamation.

g. Filed Pursuant to: Federal Power Act 16 U.S.C. 791(a)-825(r).

h. Applicant Contact: Brett Dumas, Idaho Power Company, P.O. Box 70 (83707), 1221 West Idaho Street, Boise, ID 83702; (208) 388-2915; email at bdumas@idahopower.com.

j. FERC Contact: Kristen Sinclair at (202) 502-6587, or kristen.sinclair@ferc.gov.

k. Deadline for filing motions to intervene and protests: September 29, 2023.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: American Falls Hydroelectric Project (P-2736-046).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

l. This application has been accepted for filing, but is not ready for environmental analysis at this time.

m. The existing American Falls Hydroelectric Project is located at Reclamation's American Falls Dam and consists of: (1) three 18-foot-diameter, 240-foot-long, steel-lined penstocks, that connect upstream with similar U.S. Bureau of Reclamation's penstocks and the intake works; (2) a reinforced concrete powerhouse containing three 22.5 MW turbines for total installed capacity of 67.5 MW; (3) a 2,300-foot-long, 138-kilovolt (kV) overhead transmission line extending from the powerhouse downstream to the American Falls Switchyard; (4) a tailrace; (5) recreation facilities; and (6) appurtenant facilities. The project generates an annual average of 395,000 megawatt-hours.

The project is operated in a run-of-river mode and generates an estimated average of 40,669 megawatt-hours per year.

Idaho Power is not proposing any changes to the current operations of the project, as project operations are completely dependent on Reclamation's operation of the dam and available flows.

As part of the license application, Idaho Power filed a settlement agreement between itself and the Idaho Department of Fish and Game (IDFG) that resolves issues related to project effects of turbine mortality on trout. As part of the settlement agreement, Idaho Power proposes to increase the poundage of hatchery-reared trout to be stocked by Idaho Power annually from 8,000-pounds to 24,000-pounds, with the size (fish per pound), time of stocking, and location determined by IDFG in consultation with Idaho Power. Before release, IDFG will certify the general health and condition of the fish.

n. A copy of the application is available for review via the internet through the Commission's Home Page (http://www.ferc.gov), using the “eLibrary” link. Enter the docket number, excluding the last three digits in the docket number field, to access the document. At this time, the Commission has suspended access to the Commission's Public Reference Room. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural schedule: The application will be processed according to the following schedule. Revisions to the schedule will be made as appropriate.

Issue Scoping Document 1 for comments—September 2023

Comments on Scoping Document 1 Due—October 2023

Issue Scoping Document 2 (if necessary)—November 2023

Issue Notice of Ready for Environmental Analysis—December 2023

Dated: July 31, 2023.
Kimberly D. Bose,
Secretary.

[FR Doc. 2023-16746 Filed 8-4-23; 8:45 am]

BILLING CODE 6717-01-P